DEPARTMENT OF COMMERCE

Census Bureau

Agency Information Collection Activities; Submission to the Office of Management and Budget (OMB) for Review and Approval; Comment Request; Annual Capital Expenditures Survey

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Annual Capital Expenditures Survey prior to the submission of the information collection request (ICR) to OMB for approval.

DATES: To ensure consideration, comments regarding this proposed information collection must be received on or before November 9, 2020.

ADDRESSES: Interested persons are invited to submit written comments by email to Thomas.J.Smith@census.gov. Please reference Annual Capital Expenditures Survey in the subject line of your comments. You may also submit comments, identified by Docket Number USBC-2020-0025, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Valerie Mastalski, Chief, Capital Expenditures Branch, Economy-Wide Statistics Division, U.S. Census Bureau, (301) 763-3317, or Valerie.Cherry.Mastalski@Census.gov.

SUPPLEMENTARY INFORMATION:

I. Abstract

The U.S. Census Bureau plans to conduct the 2020 through 2022 Annual Capital Expenditures Survey (ACES). This survey collects data on fixed assets and depreciation, sales and receipts, capitalized computer software, capitalized robotic equipment and capital expenditures for new and used structures and equipment. The ACES is the sole source of detailed comprehensive statistics on actual business spending for private non-farm companies, organizations, and associations operating in the United States. Both employer and non-employer companies are included in the survey.

The Bureau of Economic Analysis is a primary Federal user of ACES data. BEA relies on ACES data to refine and evaluate annual estimates of investment in structures and equipment in the national income and product accounts, compile annual input-output tables, and compute gross domestic product by industry. The Federal Reserve Board uses these data to improve estimates of investment indicators for monetary policy. The Bureau of Labor Statistics uses these data to improve estimates of capital stocks for productivity analysis. The Centers for Medicare and Medicaid Services use these data for developing estimates of investment in private health care structures and equipment as a part of the National Health Expenditure Accounts. Industry analysts use these data for market analysis, economic forecasting, identifying business opportunities, product development, and business planning.

Planned changes:

A. Content related to the Coronavirus Pandemic:

a. Add a question asking if the business received financial assistance through a federal, state, or local relief program.

i. If yes, what percent of the financial assistance was spent on payroll, rent/mortgage, utilities, capital expenditures, other.

b. Add a question seeking impact on payrolls in the absence of financial assistance (i.e., reduced hours, reduced pay, reduced staff, other).

c. Add a question asking if the business experienced a change in capital expenditure plans.

d. Add a question asking if the business's capital expenditures funded safety/social distancing investments.

B. Revisions related to integrating annual surveys: The Census Bureau is undertaking an initiative to integrate and re-engineer select annual programs. Programs include the Annual Survey of Manufactures (ASM), Annual Retail Trade Survey (ARTS), Annual Wholesale Trade Survey (AWTS), Services Annual Survey (SAS), Annual Capital Expenditures Survey (ACES), Manufacturing Shipments Inventories and Unfilled Orders (M3UFO), and Company Organizational Survey (COS). Efforts include coordinating collection strategies/instruments/communication; integrating, changing or revising content; ensuring content is relevant; coordinating samples; and improving frame and coordinating status updates across annual surveys.

C. Robotic equipment expenditures were first collected from employer businesses on the 2018 ACES. Expenditures for both industrial and service robotics were collected at the company level and assigned to the company's primary industry. The U.S. Census Bureau plans to modify the 2020 ACES to collect the presence of robotic equipment and investment by industry segment. This will improve the data quality by providing researchers and other data users better information about what industries are using technology. This will enable researchers and other data users to better use this survey as a vehicle for continual monitoring of technology and the workforce.

a. Add question on the presence of robots in the company.

b. Collect robotic equipment expenditures by industry segment.

D. Burden (only requested of non-employers).

a. Add a question requesting the amount of time it took to complete the non-employer survey.

As stated above, we plan to add questions related to the Coronavirus Pandemic. The primary objective is to measure the impact of the Coronavirus Pandemic on businesses and the economy, and meet the needs of the data user community. As we continue in these unprecedented times, the Coronavirus Pandemic content may shift, change or evolve and require further modifications on ACES.

The initiative to integrate and re-engineer select annual programs is scheduled to begin implementation in survey year 2023. The goal is to shift select annual programs from individual independent surveys to a streamlined integrated annual program. The new annual program will move from industry focused, individual surveys to requesting a more holistic view of the companies. Prior to survey year 2023, we plan to begin to align our annual programs and improve efficiencies across programs in targeted areas related to consistent content, processes, and systems. The initiative is in response to data user needs (timely, granular, harmonized data), and declining response rates.

II. Method of Collection

The initial mailing will include a letter instructing respondents to report online. The electronic reporting system provides a cost-effective and user-friendly method to collect data from companies. The Census Bureau will supply companies with a unique authentication code for the electronic reporting tool. Respondents will have the option of printing out a worksheet that lists all of the questions. Respondents will be able to print the worksheet to use as a guide to respond or can print the worksheet after completing the questionnaire as a record of their response. The online reporting instrument is tailored to the company's diversity of operations and number of industries with payroll. Employer companies will complete the ACE-1 electronic reporting instrument and non-employers will complete the ACE-2 electronic reporting instrument. Companies will be asked to respond to the survey within 30 days of the initial mailing. The Census Bureau will use reminder letters and/or telephone calls to encourage participation of companies that have not responded within 30 days.

III. Data

OMB Control Number: 0607-0782.

Form Number(s): ACE-1 and ACE-2.

Type of Review: Regular Submission, Request for a Revision of a Currently Approved Collection.

Affected Public: Private, non-farm businesses or other for-profit organizations, non-profit institutions.

Estimated Number of Respondents: Approximately 70,000 (50,000 employer companies, and 20,000 non-employer businesses).

Estimated Time per Response: The average for all respondents is 2.27 hours. For employer companies completing form ACE-1, the range is 2 to 17 hours, averaging 2.78 hours. For companies completing form ACE-2, the range is less than 1 hour to 2 hours, averaging 1 hour.

Estimated Total Annual Burden Hours: 159,000 hours.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 United States Code, Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-19988 Filed 9-9-20; 8:45 am]

BILLING CODE 3510-07-P